DEPARTMENT OF COMMERCE

Submission for OMB Review; Comment Request

The Department of Commerce (DOC) has submitted to the Office of Management and Budget (OMB) for clearance of the following proposal for collection of information under the provisions of the Paperwork Reduction Act of 1995, Public Law 104-13.

Agency: International Trade Administration (ITA).

Title: Marketing Data Form.

Agency Form Number: ITA-466P.

OMB Approval Number: 0625-0047.

Type of Request: Regular submission.

Burden Hours: 3,000.

Number of Respondents: 4,000.

Average Hours Per Response: 45 minutes.

Needs and Uses: There is a need to have proper information about companies participating in U.S. exhibitions, trade missions and Matchmaker Trade Delegations and their products in order to publicize and promote participation in these trade promotion events. The Marketing Data Form (MDF) provides information necessary to produce export promotion brochures and directories, to arrange appointments and to prospect calls on behalf of the participants with key prospective buyers, agents, distributors or government officials. Specific information is also requested relating to the participants' objectives regarding agents, distributors, joint venture or licensing partners, and any special requirements for prospective agents, for example, physical facilities, technical capabilities, financial strength, staff, representation of complementary lines, etc.

Affected Public: Business or other for profit organizations, and not-for-profit institutions.

Frequency: On occasion.

Respondent's Obligation: Required to obtain or retain a benefit; voluntary.

OMB Desk Officer: David Rostker, (202) 395-3897.

Copies of the above information collection can be obtained by calling or writing Madeleine Clayton, Departmental Paperwork Clearance Officer, (202) 482-3129, Department of Commerce, Room 6608, 14th & Constitution Avenue, NW, Washington, DC 20230 or via the Internet at MClayton@doc.gov.

Written comments and recommendations for the proposed information collection should be sent to David Rostker, OMB Desk Officer, Room 10202, New Executive Office Building, Washington, DC 20503 within 30 days of the publication of this notice in the Federal Register.

Dated: March 13, 2002.
Gwellnar Banks,
Management Analyst, Office of the Chief Information Officer.

[FR Doc. 02-6520 Filed 3-18-02; 8:45 am]

BILLING CODE 3510-FP-P